DEPARTMENT OF ENERGY

Federal Energy Regulatory Commission

Notice of Temporary Variance Request and Soliciting Comments, Motions To Intervene, and Protests

March 28, 2000.

Take notice that the following hydroelectric application has been filed with the Commission and is available for public inspection:

a. Type of Application: Request To Amend Language of Article 29.

b. Project No.: 2210-047.

c. Date filed: February 22, 2000.

d. Applicant: Appalachian Power Company.

e. Name of Project: Smith Mountain Project.

f. Location: On the Roanoke River, Bedford, Franklin, Campbell, Pittsylvania, and Roanoke Counties, Virginia. The project does not utilize federal or tribal lands.

g. Filed Pursuant to: 18 CFR 4.200.

h. Applicant Contact: Frank M. Simms, American Electric Power, 1 Riverside Plaza, Columbus, OH 43215-2373, (614) 223-2918.

i. FERC Contact: Robert Fletcher, robert.fletcher@ferc.fed.us, 202-219-1206.

j. Deadline for filing comments, motions to intervene and protest: 30 days from the issuance date of this notice. Please include the project number (2210-047) on any comments or motions filed. All documents (original and eight copies) should be filed with: David P. Boergers, Secretary, Federal Energy Regulatory Commission, 888 First Street, NE, Washington, DC 20426.

k. Description of Application: Article 29 of the Smith Mountain Project currently read as follows: “Except as provided for in Article 30, the Licensee shall release from the Lower development a minimum average weekly flow of 650 cubic feet per second.”

It should be noted that Article 30 addresses flows during the initial filling of the project reservoir. Conditions contained under license articles for other projects issued by the Commission address temporary modifications to project flow. The language generally reads as follows: “These flows may be temporarily modified if required by operating emergencies beyond the control of the licensee, or for short periods upon mutual agreement between the licensee and the appropriate agencies. If the flows are so modified, the licensee shall notify the Commission as soon as possible, but not later than 10 days after each such incident.”

The licensee has consulted with the Virginia Department of Fish and Game and Inland Fisheries and the Virginia Department of Environmental Quality to develop the following language to replace the currently contained language of Article 29: “Except as provided in Article 30, the licensee shall release from the Lower Development a minimum average weekly flow of 650 cubic feet per second. These flows may be temporarily modified if required by operating emergencies beyond the control of the licensee, and/or for short periods of time (up to 45 days) during drought and/or low inflow conditions, upon mutual agreement between the licensee and the Virginia Department of Environmental Quality (DEQ), in consultation with the Virginia Department of Game and Inland Fisheries, following appropriate public input as determined by the DEQ. If the flows are so modified, the licensee shall notify the Commission no later than 10 days after each such incident.”

l. Locations of the application: A copy of the application is available for inspection and reproduction at the Commission's Public Reference Room, located at 888 First Street, NE, Room 2A, Washington, D.C. 20426, or by calling (202) 208-1371. This filing may be viewed on http://www.ferc.fed.us/online/rims.htm (call (202) 208-2222 for assistance). A copy is also available for inspection and reproduction at the address in item h above.

m. Individuals desiring to be included on the Commission's mailing list should so indicate by writing to the Secretary of the Commission.

Protests or Motions to Intervene—Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

Filing and Service of Responsive Documents—Any filings must bear in all capital letters the title “COMMENTS”, “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, N.E., Washington, D.C. 20426. A copy of any motion to intervene must also be served upon each representative of the Applicant specified in the particular application.

Agency Comments—Federal, state, and local agencies are invited to file comments on the described application. A copy of the application may be obtained by agencies directly from the Applicant. If any agency does not file comments within the time specified for filing comments, it will be presumed to have no comments. One copy of an agency's comments must also be sent to the Applicant's representatives.

David P. Boergers,
Secretary.

[FR Doc. 00-8064 Filed 3-31-00; 8:45 am]

BILLING CODE 6717-01-M